PATENT AND TRADEMARK OFFICE

Post Registration (Trademark Processing)

ACTION: Proposed collection; comment request.

SUMMARY: The United States Patent and Trademark Office (USPTO), as part of its continuing effort to reduce paperwork and respondent burden, invites the general public and other Federal agencies to take this opportunity to comment on the extension of a continuing information collection, as required by the Paperwork Reduction Act of 1995, Public Law 104-13 (44 U.S.C. 3506(c)(2)(A)).

DATES: Written comments must be submitted on or before May 27, 2008.

ADDRESSES: You may submit comments by any of the following methods:

E-mail: Susan.Fawcett@uspto.gov. Include “0651-0055 comment” in the subject line of the message.

Fax: 571-273-0112, marked to the attention of Susan K. Fawcett.

Mail: Susan K. Fawcett, Records Officer, Office of the Chief Information Officer, Customer Information Services Group, Public Information Services Division, United States Patent and Trademark Office, P.O. Box 1450, Alexandria, VA 22313-1450.

Federal Rulemaking Portal: http://www.regulations.gov.

FOR FURTHER INFORMATION CONTACT: Requests for additional information should be directed to the attention of Janis Long, Attorney Advisor, Office of the Commissioner for Trademarks, United States Patent and Trademark Office, P.O. Box 1450, Alexandria, VA 22313-1450, by telephone at 571-272-9573, or by e-mail at janis.long@uspto.gov.

SUPPLEMENTARY INFORMATION:

I. Abstract

The United States Patent and Trademark Office (USPTO) administers the Trademark Act, 15 U.S.C. 1051 et seq. which provides for the Federal registration of trademarks, service marks, collective trademarks and service marks, collective membership marks, and certification marks. Individuals and businesses that use or intend to use such marks in commerce may file an application to register their marks with the USPTO.

Such individuals and businesses may also submit various communications to the USPTO, including requests to amend their registrations to delete goods or services that are no longer being used by the registrant. Registered marks remain on the register for ten years and can be renewed, but will be cancelled unless the owner files with the USPTO a declaration attesting to the continued use (or excusable non-use) of the mark in commerce within specific deadlines. Applicants may also surrender a registration and, in limited situations, petition the Director to reinstate a registration that has been cancelled.

The rules implementing the Act are set forth in 37 CFR Part 2. These rules mandate that each register entry include the mark, the goods and/or services in connection with which the mark is used, ownership information, dates of use, and certain other information. The USPTO also provides similar information concerning pending applications. The register and pending application information may be accessed by an individual or by businesses to determine availability of a mark. By accessing the USPTO's information, parties may reduce the possibility of initiating use of a mark previously adopted by another. The Federal trademark registration process may lessen the filing of papers in court and between parties.

II. Method of Collection

Electronically if applicants submit the information using the forms available through TEAS. By mail or hand delivery if applicants choose to submit the information in paper form.

III. Data

OMB Number: 0651-0055.

Form Number(s): PTO Forms 4.16, 1553, 1583, 1597 and 1963.

Type of Review: Extension of a currently approved collection.

Affected Public: Primarily business or other for-profit organizations.

Estimated Number of Respondents: 106,030 per year.

Estimated Time per Response: The USPTO estimates that it will take approximately 3 minutes (0.05 hours) to 30 minutes (0.50 hours) to complete this information. This includes the time to gather the necessary information, create the documents, and submit the completed request to the USPTO.

Estimated Total Annual Respondent Burden Hours: 16,689 hours.

Estimated Total Annual Respondent Cost Burden: $5,073,456. The USPTO believes that associate attorneys will complete this information. The professional hourly rate for associate attorneys in private firms is $304. Using this hourly rate, the USPTO estimates that the total respondent cost burden for this collection is $5,073,456.

Item | Estimated time for response (min) | Estimated annual responses | Estimated annual burden hours
Declaration of Use of a Mark in Commerce Under § 8 | 11 | 866 | 156
TEAS Declaration of Use of a Mark in Commerce Under § 8 | 10 | 6,559 | 1,115
Combined Declaration of Use in Commerce & Application for Renewal of Registration of a Mark Under §§ 8 & 9 | 14 | 3,013 | 693
TEAS Combined Declaration of Use in Commerce & Application for Renewal of Registration of a Mark Under §§ 8 & 9 | 12 | 41,287 | 8,257
Declaration of Incontestability of a Mark Under § 15 | 3 | 92 | 5
TEAS Declaration of Incontestability of a Mark Under § 15 | 6 | 508 | 51
Combined Declaration of Use & Incontestability Under §§ 8 & 15 | 5 | 7,120 | 570
TEAS Combined Declaration of Use & Incontestability Under §§ 8 & 15 | 3 | 37,555 | 1,878
Amendments and Corrections | 30 | 4,780 | 2,390
Surrenders | 30 | 450 | 225
Section 7 Request | 20 | 1,900 | 627
TEAS Section 7 Request | 23 | 1,900 | 722
Totals |  | 106,030 | 16,689

Estimated Total Annual Non-Hour Respondent Cost Burden (includes postage costs and filing fees): $37,153,771. This collection has no operating, maintenance or recordkeeping costs.

Customers incur postage costs when submitting non-electronic information to the USPTO by mail through the United States Postal Service. The USPTO estimates that the majority of submissions for these paper forms are made via first class mail. First class postage is 41 cents. Therefore, a total estimated mailing cost of $7,471 is incurred (18,221 responses × $0.41).

Item | Responses (yr) | Postage costs | Total cost (yr)
| (a) | (b) | (a × b)
Declaration of Use of a Mark in Commerce Under § 8 | 866 | $0.41 | $355.00
Combined Declaration of Use in Commerce & Application for Renewal of Registration of a Mark Under §§ 8 & 9 | 3,013 | 0.41 | 1,235.00
Declaration of Incontestability of a Mark Under § 15 | 92 | 0.41 | 38.00
Combined Declaration of Use & Incontestability Under §§ 8 & 15 | 7,120 | 0.41 | 2,919.00
Amendments and Corrections | 4,780 | 0.41 | 1,960.00
Surrenders | 450 | 0.41 | 185.00
Section 7 Requests | 1,900 | 0.41 | 779.00
Totals | 18,221 |  | 7,471.00

Filing fees of $37,146,300 are associated with this collection. The filing fees are based on per class filing of goods and services, therefore, the total filing fees can vary depending on the number of classes. There is a $100 filing fee for Section 7 Requests unless the correction is due to a USPTO error, in which case there is no fee. The USPTO estimates that approximately 2,533 of the 3,800 expected Section 7 Requests would require the fee. The filing fees shown here are the minimum fees associated with this information collection.

Item | Responses (yr) | Filing fees (b) | Total cost (yr)
| (a) | (b) | (a × b)
Declaration of Use of a Mark in Commerce Under § 8 | 866 | $100.00 | $86,600.00
TEAS Declaration of Use of a Mark in Commerce Under § 8 | 6,559 | 100.00 | 655,900.00
Combined Declaration of Use in Commerce & Application for Renewal of Registration of a Mark Under §§ 8 & 9 | 3,013 | 500.00 | 1,506,500.00
TEAS Combined Declaration of Use in Commerce & Application for Renewal of Registration of a Mark Under §§ 8 & 9 | 41,287 | 500.00 | 20,643,500.00
Declaration of Incontestability of a Mark Under § 15 | 92 | 200.00 | 18,400.00
TEAS Declaration of Incontestability of a Mark Under § 15 | 508 | 200.00 | 101,600.00
Combined Declaration of Use & Incontestability Under §§ 8 & 15 | 7,120 | 300.00 | 2,136,000.00
TEAS Combined Declaration of Use & Incontestability Under §§ 8 & 15 | 37,555 | 300.00 | 11,266,500.00
Amendments and Corrections | 4,780 | 100.00 | 478,000.00
Surrenders | 450 | 0.00 | 0.00
Section 7 Requests | 1,266 | 100.00 | 126,600.00
TEAS Section 7 Requests | 1,267 | 100.00 | 126,700.00
Totals | 104,763 |  | 37,146,300.00
*Note: All filing fees are based on per class filing.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: March 20, 2008.
Susan K. Fawcett,
Records Officer, USPTO, Office of the Chief Information Officer, Customer Information Services Group, Public Information Services Division.

[FR Doc. E8-6297 Filed 3-26-08; 8:45 am]

BILLING CODE 3510-16-P